OFFICE OF THE UNITED STATES TRADE REPRESENTATIVE

Notice of Continuation and Request for Nominations for the Trade Advisory Committee on Africa

AGENCY: Office of the United States Trade Representative.

ACTION: Notice and request for applications.

SUMMARY: The Office of the United States Trade Representative (USTR) is establishing a new four-year charter term and accepting applications from qualified individuals interested in serving as a member of the Trade Advisory Committee on Africa (TACA). The TACA is a trade advisory committee that provides general policy advice and guidance to the United States Trade Representative on trade policy and development matters that have a significant impact on the countries of sub-Saharan Africa.

DATES: USTR will accept nominations on a rolling basis for membership on the TACA for the four-year charter term beginning in March 2018. To ensure consideration before the new charter term, you should submit you application by February 2, 2018.

FOR FURTHER INFORMATION CONTACT: Stewart Young, Deputy Assistant U.S. Trade Representative for Intergovernmental Affairs and Public Engagement, SYoung@ustr.eop.gov or 202-395-2864, or Bennett Harman, Deputy Assistant U.S. Trade Representative for Africa, BHarman@ustr.eop.gov or 202-395-9612.

SUPPLEMENTARY INFORMATION:

1. Background

Section 135(c)(1) of the Trade Act of 1974, as amended (19 U.S.C. 2155(c)(1)), authorizes the President to establish individual general trade policy advisory committees for industry, labor, agriculture, services, investment, defense, small business, and other interests, as appropriate, to provide general policy advice. The President delegated that authority to the United States Trade Representative in Executive Order 11846, section 4(d), issued on March 27, 1975. In addition, section 14 of the AGOA Acceleration Act of 2004, Public Law 108-274, 118 Stat. 829-830 (codified at 19 U.S.C. 3701 note) specifically acknowledged the TACA, which USTR established under these authorities. Advisory committees established by the Trade Representative are subject to the provisions of the Federal Advisory Committee Act. See 19 U.S.C. 2155(f); 5 U.S.C. App. II.

Pursuant to these authorities, the United States Trade Representative intends to establish a new four-year charter term for the TACA, which will begin on March 19, 2018 and end on March 18, 2022.

The TACA is a discretionary trade advisory committee established to provide general policy advice to the United States Trade Representative on trade policy and development matters that have a significant impact on the countries of sub-Saharan Africa. More specifically, the TACA provides general policy advice on issues that may affect the countries of sub-Saharan Africa including: (1) Negotiating objectives and bargaining positions before entering into trade agreements; (2) the impact of the implementation of trade agreements; (3) matters concerning the operation of any trade agreement once entered into; and (4) other matters arising in connection with the development, implementation, and administration of the trade policy of the United States. The TACA also facilitates the goals and objectives of the African Growth and Opportunity Act (AGOA) and assists in maintaining ongoing discussions with sub-Saharan African trade and agriculture ministries and private sector organizations on issues of mutual concern, including regional and international trade concerns and World Trade Organization issues.

The TACA meets as needed, at the call of the United States Trade Representative or his/her designee, or two-thirds of the TACA members, depending on various factors such as the level of activity of trade negotiations and the needs of the United States Trade Representative.

II. Membership

The TACA is composed of not more than 30 members who have expertise in general trade, investment and development issues and specific knowledge of United States-Africa trade and investment trends including trade under the AGOA; constraints to trade and investment (including infrastructure, energy and financing); trade facilitation measures; sanitary and phyto-sanitary measures and technical barriers to trade; trade capacity building; investment treaty negotiations; United States-Africa investment and private sector partnerships; and implementation of World Trade Organization agreements. Members may represent industry, organized labor, investment, agriculture, services, non-profit development organizations, academia, and small business.

The United States Trade Representative appoints all TACA members for a term of four-years or until the TACA charter expires, and they serve at his/her discretion. Individuals can be reappointed for any number of terms. The United States Trade Representative makes appointments without regard to political affiliation and with an interest in ensuring balance in terms of sectors, demographics, and other factors relevant to the USTR's needs. Insofar as practicable, TACA membership will reflect regional diversity and be broadly representative of key sectors and groups of the economy with an interest in trade and sub-Saharan Africa issues, including U.S. citizens who are diaspora African and U.S. citizens of African descent with requisite knowledge and experience.

TACA members serve without either compensation or reimbursement of expenses. Members are responsible for all expenses they incur to attend meetings or otherwise participate in TACA activities.

The United States Trade Representative appoints TACA members to represent their sponsoring U.S. entity's interests on sub-Saharan Africa trade, and thus USTR's foremost consideration for applicants is their ability to carry out the goals of section 135(c) of the Trade Act of 1974, as amended. Other criteria include the applicant's knowledge of and expertise in international trade issues as relevant to the work of the TACA and USTR. USTR anticipates that almost all TACA members will serve in a representative capacity with a very limited number serving in an individual capacity as subject matter experts. These members, known as special government employees or SGEs, are subject to conflict of interest rules and will have to complete a financial disclosure report.

III. Request for Nominations

USTR is soliciting nominations for membership on the TACA. To apply for membership, an applicant must meet the following eligibility criteria:

1. The applicant must be a U.S. citizen.

2. The applicant cannot be a full-time employee of a U.S. governmental entity.

3. If serving in an individual capacity as an SGE, the applicant cannot be a federally registered lobbyist.

4. The applicant cannot be registered with the U.S. Department of Justice under the Foreign Agents Registration Act.

5. The applicant must be able to obtain and maintain a security clearance.

6. For representative members, who will comprise the overwhelming majority of the TACA, the applicant must represent a U.S. organization whose members (or funders) have a demonstrated interest in issues relevant to U.S. African trade and investment or have personal experience or expertise in United States-sub-Saharan African trade.

For eligibility purposes, a “U.S. organization” is an organization established under the laws of the United States, that is controlled by U.S. citizens, by another U.S. organization (or organizations), or by a U.S. entity (or entities), determined based on its board of directors (or comparable governing body), membership, and funding sources, as applicable. To qualify as a U.S. organization, more than 50 percent of the board of directors (or comparable governing body) and more than 50 percent of the membership of the organization to be represented must be U.S. citizens, U.S. organizations, or U.S. entities. Additionally, at least 50 percent of the organization's annual revenue must be attributable to nongovernmental U.S. sources.

7. For members who will serve in an individual capacity, the applicant must possess subject matter expertise regarding sub-Saharan Africa trade issues.

In order to be considered for TACA membership, interested persons should submit the following to Stewart Young at SYoung@ustr.eop.gov:

• Name, title, affiliation, and contact information of the individual requesting consideration.

• If applicable, a sponsor letter on the organization's letterhead containing a brief description of the manner in which international trade affects the organization and why USTR should consider the applicant for membership.

• The applicant's personal resume or comprehensive biography.

• An affirmative statement that the applicant and the organization he or she represents meet all eligibility requirements.

USTR will consider applicants who meet the eligibility criteria based on the following factors: Ability to represent the sponsoring U.S. entity's or U.S. organization's and its subsector's interests on sub-Saharan Africa trade matters; knowledge of and experience in trade matters relevant to the work of the TACA and USTR; and ensuring that the TACA is balanced in terms of points of view, demographics, geography, and entity or organization size.

Stewart Young,
Deputy Assistant U.S. Trade Representative for Intergovernmental Affairs and Public Engagement, Office of the United States Trade Representative.

[FR Doc. 2018-00338 Filed 1-10-18; 8:45 am]

BILLING CODE 3290-F8-P